MILLENNIUM CHALLENGE CORPORATION

[MCC FR 04-12]

Public Outreach Meeting

AGENCY: Millennium Challenge Corporation.

ACTION: Notice.

SUMMARY: The Millennium Challenge Corporation (“MCC”) will hold a public outreach meeting on Wednesday, November 10, 2004 at the U.S. Department of State in Washington, DC. The MCC Chairman, CEO and MCC staff will update interested members of the public regarding the MCC Board's selection of Millennium Challenge Account eligible countries for Fiscal Year 2005.

DATES: Wednesday, November 10, 2004; from 1-2 p.m.

ADDRESSES: U.S. Department of State, Dean Acheson Auditorium (Enter through 23rd Street, NW., Entrance between C and D Streets), Washington, DC.

FOR FURTHER INFORMATION CONTACT: Information on the meeting may be obtained from Cassandra Jastrow at (202) 521-3600.

SUPPLEMENTARY INFORMATION: Due to security requirements at the meeting location, all individuals wishing to attend the meeting are encouraged to arrive at least 20 minutes before the meeting begins and must comply with all relevant security requirements of the U.S. Department of State. Those wishing to attend should e-mail Cassandra Jastrow at events@mcc.gov with the following information: Name, Telephone Number, e-mail address; Affiliation/Company Name, Social Security Number and Date of Birth. Seating will be available on a first come, first served basis.

Dated: November 5, 2004.
Frances C. McNaught,
Vice President, Domestic Relations, Millennium Challenge Corporation.

[FR Doc. 04-25060 Filed 11-5-04; 12:04 pm]

BILLING CODE 9210-01-U